DEPARTMENT OF TRANSPORTATION

Federal Aviation Administration

14 CFR Part 39

[Docket No. FAA-2020-0270; Product Identifier 2019-SW-018-AD]

RIN 2120-AA64

Airworthiness Directives; Bell Textron Inc. (Type Certificate Previously Held by Bell Helicopter Textron Inc.) Helicopters

AGENCY: Federal Aviation Administration (FAA), DOT.

ACTION: Supplemental notice of proposed rulemaking (SNPRM); reopening of comment period.

SUMMARY: The FAA is revising an earlier proposed Airworthiness Directive (AD) for Bell Textron Inc. (Bell) Model 205B helicopters which proposed to require reducing the life limit of certain tail rotor (T/R) blades and re-identifying certain T/R blades with a new part number (P/N). The notice of proposed rulemaking (NPRM) was prompted by flight testing and fatigue analysis results. This action revises the NPRM by adding additional T/R part numbers (P/Ns) to the proposed applicability. The FAA is proposing this AD to address the unsafe condition on these products. Since these actions would impose an additional burden over those in the NPRM, the FAA is reopening the comment period to allow the public the chance to comment on these changes.

DATES: The comment period for the NPRM published in the Federal Register on March 25, 2020 (85 FR 16916), is reopened.

The FAA must receive comments on this SNPRM by January 22, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

For service information identified in this SNPRM, contact Bell Helicopter Textron, Inc., P.O. Box 482, Fort Worth, TX 76101; telephone 817-280-3391; fax 817-280-6466; or at https://www.bellcustomer.com. You may view the referenced service information at the FAA, Office of the Regional Counsel, Southwest Region, 10101 Hillwood Pkwy., Room 6N-321, Fort Worth, TX 76177.

Examining the AD Docket

You may examine the AD docket on the internet at https://www.regulations.gov by searching for and locating Docket No. FAA-2020-0270; or in person at Docket Operations between 9 a.m. and 5 p.m., Monday through Friday, except Federal holidays. The AD docket contains this SNPRM, any comments received, and other information. The street address for Docket Operations is listed above. Comments will be available in the AD docket shortly after receipt.

FOR FURTHER INFORMATION CONTACT: Kuethe Harmon, Safety Management Program Manager, DSCO Branch, FAA, 10101 Hillwood Pkwy., Fort Worth, TX 76177; telephone 817-222-5198; email kuethe.harmon@faa.gov.

SUPPLEMENTARY INFORMATION:

Comments Invited

The FAA invites you to send any written relevant data, views, or arguments about this proposal. Send your comments to an address listed under ADDRESSES. Include “Docket No. FAA-2020-0270; Product Identifier 2019-SW-018-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kuethe Harmon, Safety Management Program Manager, DSCO Branch, FAA, 10101 Hillwood Pkwy., Fort Worth, TX 76177; telephone 817-222-5198; email kuethe.harmon@faa.gov. Any commentary that the FAA receives which is not specifically designated as CBI will be placed in the public docket for this rulemaking.

Discussion

The FAA issued an NPRM to amend 14 CFR part 39 to include an AD that would apply to Bell Model 205B helicopters with a T/R blade P/N 212-010-750-009 or 212-010-750-105 installed. The NPRM published in the Federal Register on March 25, 2020 (85 FR 16916). The NPRM proposed to require reducing the life limit of each affected T/R blade; re-identifying the T/R blade P/N on its data plate by vibro-etching to change the last three digits of the existing P/N; creating a component history card or equivalent record; revising the Airworthiness Limitations section of the existing maintenance manual for your helicopter to annotate the new P/N and revised life limit; and prohibit installing any affected T/R blade that has not met the AD requirements. The proposed NPRM was prompted by flight testing and fatigue analysis by Bell which indicated that the affected part-numbered T/R blades sustain greater loads when installed on Bell Model 205B helicopters compared to their use on other model helicopters. The proposed actions were intended to prevent a T/R blade remaining in service beyond its fatigue life, resulting in failure of the T/R blade and subsequent loss control of the helicopter.

Actions Since Previous NPRM Was Issued

Since the FAA issued the NPRM, further research by Bell has identified additional T/R blade P/Ns, which are also subject to the unsafe condition and would require re-identification and reduced life limits. Accordingly, Bell has revised its service information to include the additional part numbered T/R blades. The FAA has determined the NPRM must be revised by revising the applicability to include these additional part numbered T/R blades and the service information must be updated to include the revised service information with the newly identified T/R blade P/Ns.

Comments

The FAA gave the public the opportunity to participate in developing this proposed AD. The following presents the comment received on the NPRM and the FAA's response to that comment.

Request To Add Additional T/R Blade Part Numbers

Bell requested the Applicability paragraph be updated to include the newly identified T/R blade P/Ns and that the FAA update the corrective actions to include those newly identified T/R blade P/Ns. Bell stated that it is revising the service information to address the additional T/R blade P/Ns and the re-identification and life limit requirements of those additional T/R blades. Accordingly, the commenter requested the FAA postpone the release of the AD until the part numbers are disclosed to the FAA.

The FAA agrees the NPRM should be revised to include the additional T/R blade P/Ns and the re-identification and life limit requirements of those additional T/R blade P/Ns.

FAA's Determination

The FAA is proposing this SNPRM after evaluating all known relevant information and determining that an unsafe condition is likely to exist or develop on other helicopters of the same type design. Certain changes described above expand the scope of the original NPRM. As a result, the FAA has determined that it is necessary to reopen the comment period to provide additional opportunity for the public to comment on this SNPRM.

Related Service Information

The FAA reviewed Bell Helicopter Textron Alert Service Bulletin No. 205B-20-70, dated August 6, 2020, for Model 205B helicopters. This service information specifies reducing the life limit of T/R blade P/N 212-010-750-109, 212-010-750-111, 212-010-750-113, 212-010-750-117, 212-010-750-133, 212-010-750-135, 212-010-750-117FM, and 212-010-750-135FM to 2,500 hours time-in-service (TIS). This service information also specifies re-identifying certain T/R blade P/Ns by assigning new dash number by vibro-etching a new P/N on the T/R blade data plate and annotating the historical record card.

The FAA also reviewed Bell Helicopter Textron Alert Service Bulletin No. 205B-98-27, dated June 1, 1998, for Model 205B helicopters. This service information specifies reducing the life limit of T/R blade P/N 212-010-750-009 and 212-010-750-105 to 2,500 hours TIS and assigning these T/R blades a new dash number by vibro-etching a new P/N on the T/R blade data plate and annotating the historical record card.

Proposed AD Requirements

This proposed AD would require, before further flight, reducing the life limit of each affected T/R blade from 5,000 hours TIS to 2,500 hours TIS; re-identifying certain part numbered T/R blades by vibro-etching to change the last three digits of the existing P/N; creating a component history card or equivalent record; and revising the Airworthiness Limitations section of the existing maintenance manual for your helicopter to annotate the new P/N and revised life limit. Finally, this SNPRM would prohibit installing any affected T/R blade that has not met the proposed AD requirements.

Costs of Compliance

The FAA estimates that this proposed AD would affect 2 helicopters of U.S. Registry. The FAA estimates that operators may incur the following costs in order to comply with this AD. Labor costs are estimated at $85 per work-hour.

Determining the total hours TIS of a T/R blade, re-identifying the P/N, and updating the helicopter records would take about 1 work-hour for each T/R blade for an estimated cost of $170 per helicopter and $340 for the U.S fleet.

Replacing a T/R blade would take about 8 work-hours and parts would cost about $29,110 for an estimated cost of $29,790 per T/R blade.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Inc. (Type Certificate Previously Held by Bell Helicopter Textron Inc.) Helicopters: Docket No. FAA-2020-0270; Product Identifier 2019-SW-018-AD.

(a) Comments Due Date

The FAA must receive comments by January 22, 2021.

(b) Affected Airworthiness Directives (AD)

None.

(c) Applicability

This AD applies to Bell Textron Inc. (Bell) Model 205B helicopters, certificated in any category, with a tail rotor (T/R) blade part number (P/N) 212-010-750-009, 212-010-750-105, 212-010-750-109, 212-010-750-111, 212-010-750-113, 212-010-750-117, 212-010-750-133, 212-010-750-135, 212-010-750-117FM, or 212-010-750-135FM installed.

(d) Subject

Joint Aircraft System Component (JASC) Code 6410 Tail Rotor Blades.

(e) Unsafe Condition

This AD was prompted by flight testing and fatigue analysis that indicates that these part-numbered T/R blades sustain greater loads when used on Bell Model 205B helicopters compared to their use on other model helicopters. The FAA is issuing this AD to prevent a T/R blade from remaining in service beyond its fatigue life, resulting in failure of the T/R blade and subsequent loss of control of the helicopter.

(f) Compliance

You are responsible for performing each action required by this AD within the specified compliance time unless it has already been accomplished prior to that time.

(g) Required Actions

(1) Before further flight:

(i) Determine the total hours time-in-service (TIS) of each T/R blade and remove from service each T/R blade that has accumulated 2,500 or more hours TIS. For each T/R blade that has accumulated less than 2,500 hours TIS, do the following:

(ii) Re-identify the P/N on the T/R blade data plate by vibro-etching to change the last three digits of the existing P/N as follows:

(A) For T/R blade P/N 212-010-750-009, re-identify the P/N as 212-010-750-111.

(B) For T/R blade P/N 212-010-750-105, re-identify the P/N as 212-010-750-109.

(C) For T/R blade P/N 212-010-750-113, re-identify the P/N as 212-010-750-117FM.

(D) For T/R blade P/N 212-010-750-133, re-identify the P/N as 212-010-750-135FM.

(iii) Create a component history card or equivalent record to reflect the change in P/N for each T/R blade, and establish a life limit of 2,500 hours TIS.

(iv) Revise the Airworthiness Limitations Section of the existing maintenance manual or the Instructions for Continued Airworthiness for your helicopter to establish a life limit of 2,500 hours TIS for each T/R blade P/N 212-010-750-109, P/N 212-010-750-111, P/N 212-010-750-117, P/N 212-010-750-135, P/N 212-010-750-117FM, and P/N212-010-750-135FM.

(2) Thereafter, except as provided in paragraph (i), no alternative life limits may be approved for T/R blade P/N 212-010-750-009, P/N 212-010-750-105, P/N 212-010-750-113, or P/N 212-010-750-133.

(3) After the effective date of this AD, do not install a T/R blade P/N 212-010-750-009, P/N 212-010-750-105, P/N 212-010-750-113, or P/N 212-010-750-133 on any Model 205B helicopter unless the part number has been changed and the life limit reduced in accordance with this AD.

(4) After the effective date of this AD do not install a T/R blade P/N 212-010-750-109, P/N 212-010-750-111, P/N 212-010-750-117, P/N 212-010-750-135, P/N 212-010-750-117FM, or P/N 212-010-750-135FM, on any Model 205B helicopter unless the life limit has been reduced in accordance with this AD.

(h) Special Flight Permits

Special flight permits are prohibited.

(i) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ASW-190-COS@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(j) Related Information

(1) For more information about this AD, contact Kuethe Harmon, Safety Management Program Manager, DSCO Branch, FAA, 10101 Hillwood Pkwy., Fort Worth, TX 76177; telephone 817-222-5198; email kuethe.harmon@faa.gov.

(2) For service information identified in this AD, contact Bell Textron Inc., P.O. Box 482, Fort Worth, TX 76101; telephone 817-280-3391; fax 817-280-6466; or at https://www.bellcustomer.com. You may view service information at the FAA, Office of the Regional Counsel, Southwest Region, 10101 Hillwood Pkwy., Room 6N-321, Fort Worth, TX 76177.

Issued on November 12, 2020.
Lance T. Gant,
Director, Compliance & Airworthiness Division, Aircraft Certification Service.

[FR Doc. 2020-26856 Filed 12-7-20; 8:45 am]

BILLING CODE 4910-13-P